DEPARTMENT OF STATE

[Public Notice 6586]

Waiver of Restriction on Assistance to Central Government of Egypt

Pursuant to section 7088(c)(2) of the Department of State, Foreign Operations, and Related Programs Appropriations Act, 2009 (Division H, Pub. L. 111-8) (“the Act”), and Department of State Delegation of Authority Number 245-1, I hereby determine that is important to the national interest of the United States to waive the requirements of section 7088(c)(1) of the Act with respect to the Government of Egypt, and I hereby waive such restriction.

This determination shall be reported to the Congress, and published in the Federal Register.

Dated: April 2, 2009.
James B. Steinberg,
Deputy Secretary of State, Department of State.

[FR Doc. E9-9039 Filed 4-17-09; 8:45 am]

BILLING CODE 4710-31-P